DEPARTMENT OF ENERGY

Federal Energy Regulatory Commission

Combined Notice of Filings # 1

December 10, 2010.

Take notice that the Commission received the following electric rate filings:

Docket Numbers: ER10-2615-001; ER11-2335-001.

Applicants: Plum Point Energy Associates, L.L.C., Plum Point Services Company, LLC.

Description: Plum Point MBR Entities Submit 652 Notice of Change in Status.

Filed Date: 12/10/2010.

Accession Number: 20101210-5174.

Comment Date: 5 p.m. Eastern Time on Monday, January 03, 2011.

Docket Numbers: ER10-2785-003.

Applicants: Chevron Coalinga Energy Company.

Description: Chevron Coalinga Energy Company submits tariff filing per 35: Chevron Coalinga Energy Company Tariff to be effective 10/19/2010.

Filed Date: 10/20/2010.

Accession Number: 20101020-5155.

Comment Date: 5 p.m. Eastern Time on Thursday, December 30, 2010.

Docket Numbers: ER10-2786-003.

Applicants: Washington Gas Energy Services, Inc.

Description: Washington Gas Energy Services, Inc. submits tariff filing per 35: Washington Gas Energy Services Tariff to be effective 10/19/2010.

Filed Date: 10/20/2010.

Accession Number: 20101020-5156.

Comment Date: 5 p.m. Eastern Time on Thursday, December 30, 2010.

Docket Numbers: ER11-2325-000.

Applicants: California Pacific Electric Company, LLC.

Description: California Pacific Electric Company, LLC submits tariff filing per 35.1: Electric Service Agreement to be effective 12/31/1998.

Filed Date: 12/09/2010.

Accession Number: 20101209-5079.

Comment Date: 5 p.m. Eastern Time on Monday, December 20, 2010.

Docket Numbers: ER11-2326-000.

Applicants: Florida Power Corporation.

Description: Florida Power Corporation submits tariff filing per 35.13(a)(2)(iii): Rate Schedule No. 204 of Florida Power Corporation to be effective 12/9/2010.

Filed Date: 12/09/2010.

Accession Number: 20101209-5080.

Comment Date: 5 p.m. Eastern Time on Thursday, December 30, 2010.

Docket Numbers: ER11-2327-000.

Applicants: PJM Interconnection, L.L.C.

Description: PJM Interconnection, L.L.C. submits tariff filing per 35.13(a)(2)(iii): WMPA No. 2704, Queue W2-071, CleanLight Energy, L.L.C. and PSE&G to be effective 11/9/2010.

Filed Date: 12/09/2010.

Accession Number: 20101209-5104.

Comment Date: 5 p.m. Eastern Time on Thursday, December 30, 2010.

Docket Numbers: ER11-2328-000.

Applicants: AEE2, L.L.C.

Description: AEE2, L.L.C. submits tariff filing per 35.1): AEE2 Rate Schedule No. 1 (Lease Agreement with AES ES Westover) to be effective 12/9/2010.

Filed Date: 12/09/2010.

Accession Number: 20101209-5105.

Comment Date: 5 p.m. Eastern Time on Thursday, December 30, 2010.

Docket Numbers: ER11-2329-000.

Applicants: California Independent System Operator Corporation.

Description: California Independent System Operator Corporation submits tariff filing per 35.13(a)(2)(iii): 2010-12-09 Errata to CAISO's Service Agreement 1774 Blythe LGIA to be effective 12/9/2010.

Filed Date: 12/09/2010.

Accession Number: 20101209-5108.

Comment Date: 5 p.m. Eastern Time on Thursday, December 30, 2010.

Docket Numbers: ER11-2330-000.

Applicants: KCP&L Greater Missouri Operations Company.

Description: KCP&L Greater Missouri Operations Company submits tariff filing per 35: Formula Rate Implementation Filing to be effective 8/4/2010.

Filed Date: 12/09/2010.

Accession Number: 20101209-5134.

Comment Date: 5 p.m. Eastern Time on Thursday, December 30, 2010.

Docket Numbers: ER11-2331-000.

Applicants: Balance Power Systems, LLC.

Description: Balance Power Systems, LLC submits tariff filing per 35.12: InitialRev2 to be effective 2/6/2011.

Filed Date: 12/10/2010.

Accession Number: 20101210-5000.

Comment Date: 5 p.m. Eastern Time on Monday, January 03, 2011.

Docket Numbers: ER11-2332-000.

Applicants: UBS AG.

Description: UBS AG submits tariff filing per 35: Request for Category 1 Status in the Northwest Region to be effective 12/10/2010.

Filed Date: 12/10/2010.

Accession Number: 20101210-5102.

Comment Date: 5 p.m. Eastern Time on Monday, January 03, 2011.

Docket Numbers: ER11-2333-000.

Applicants: Bangor Hydro Electric Company.

Description: Bangor Hydro Electric Company submits tariff filing per 35.1: Bangor Hydro Interconnection Agreement PPL Maine to be effective 12/11/2010.

Filed Date: 12/10/2010.

Accession Number: 20101210-5103.

Comment Date: 5 p.m. Eastern Time on Monday, January 03, 2011.

Docket Numbers: ER11-2334-000.

Applicants: Midwest Independent Transmission System Operator, Inc.

Description: Midwest Independent Transmission System Operator, Inc. submits tariff filing per 35.13(a)(2)(iii): ATC Notice of Succession, Part I to be effective 2/9/2011.

Filed Date: 12/10/2010.

Accession Number: 20101210-5133.

Comment Date: 5 p.m. Eastern Time on Monday, January 03, 2011.

Docket Numbers: ER11-2334-001.

Applicants: Midwest Independent Transmission System Operator, Inc.

Description: Midwest Independent Transmission System Operator, Inc. submits tariff filing per 35.17(b): (2) ATC Notice of Succession to be effective 2/9/2011.

Filed Date: 12/10/2010.

Accession Number: 20101210-5146.

Comment Date: 5 p.m. Eastern Time on Monday, January 03, 2011.

Docket Numbers: ER11-2334-002.

Applicants: Midwest Independent Transmission System Operator, Inc.

Description: Midwest Independent Transmission System Operator, Inc. submits tariff filing per 35.17(b): (3) ATC Notice of Succession to be effective 2/9/2011.

Filed Date: 12/10/2010.

Accession Number: 20101210-5151.

Comment Date: 5 p.m. Eastern Time on Monday, January 03, 2011.

Docket Numbers: ER11-2335-000.

Applicants: Dynegy Services Plum Point, LLC.

Description: Dynegy Services Plum Point, LLC submits tariff filing per 35.13(a)(2)(iii): Plum Point Services FERC Electric Tariff No. 1 to be effective 12/10/2010.

Filed Date: 12/10/2010.

Accession Number: 20101210-5145.

Comment Date: 5 p.m. Eastern Time on Monday, January 03, 2011.

Docket Numbers: ER11-2336-000.

Applicants: Central Hudson Gas & Electric Corporation.

Description: Central Hudson Gas & Electric Corporation submits tariff filing per 35.13(a)(2)(iii): FERC Rate Schedule 202—Update to be effective 11/12/2010.

Filed Date: 12/10/2010.

Accession Number: 20101210-5160.

Comment Date: 5 p.m. Eastern Time on Monday, January 03, 2011.

Docket Numbers: ER11-2337-000.

Applicants: Otter Tail Power Company.

Description: Otter Tail Power Company submits tariff filing per 35.13(a)(2)(iii): Revisions to Transmission Capacity Exchange Agreement to be effective 12/1/2010.

Filed Date: 12/10/2010.

Accession Number: 20101210-5169.

Comment Date: 5 p.m. Eastern Time on Monday, January 03, 2011.

Take notice that the Commission received the following electric securities filings:

Docket Numbers: ES11-10-000.

Applicants: Northwestern Corporation.

Description: Application of NorthWestern Corporation for Authorization to Issue Securities under Section 204 of the Federal Power Act and Request for Expedited Action.

Filed Date: 12/09/2010.

Accession Number: 20101209-5147.

Comment Date: 5 p.m. Eastern Time on Thursday, December 30, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-31834 Filed 12-17-10; 8:45 am]

BILLING CODE 6717-01-P